DEPARTMENT OF THE INTERIOR

Bureau of Land Management

[LLAKF02000.16100000.MR0000.L.X.S.S.094L0000]

Notice of Availability for the Eastern Interior Draft Resource Management Plan/Environmental Impact Statement, Alaska

AGENCY: Bureau of Land Management, Interior.

ACTION: Notice of Availability.

SUMMARY: In accordance with the National Environmental Policy Act of 1969 as amended, and the Federal Land Policy and Management Act of 1976, as amended, the Bureau of Land Management (BLM) has prepared a Draft Resource Management Plan (RMP) and Environmental Impact Statement (EIS) for the Eastern Interior Planning Area (Alaska), and by this notice is announcing the opening of the comment period.

DATES: To ensure that comments will be considered, the BLM must receive written comments on the Draft RMP/EIS by July 23, 2012. The BLM will announce future meetings or hearings and any other public participation activities at least 15 days in advance through public notices, media releases, and/or mailings.

ADDRESSES: You may submit comments related to the Eastern Interior Draft RMP/EIS by any of the following methods:

• Web site: http://www.blm.gov/ak/st/en/prog/planning.html.

• Fax: 907-474-2282.

• Mail: Eastern Interior Field Office, Attention—Eastern Interior Draft RMP/EIS, Bureau of Land Management, 1150 University Avenue, Fairbanks, Alaska 99709.

Copies of the Eastern Interior Draft RMP/EIS are available at the Fairbanks District Office at the above address; at the Alaska State Office, Public Information Center, Bureau of Land Management, 222 West 7th Avenue, Anchorage, Alaska 99513; and on the following Web site: http://www.blm.gov/ak/st/en/prog/planning.html.

FOR FURTHER INFORMATION CONTACT: Jeanie Cole, telephone 907-474-2340 or email j05cole@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Eastern Interior Draft RMP/EIS covers approximately 6.7 million acres of BLM-administered lands in interior Alaska and is divided into four geographic areas: The Fortymile, Steese, Upper Black River, and White Mountains subunits. The planning area encompasses four areas managed under the BLM's National Landscape Conservation System (NLCS): The Birch Creek, Beaver Creek, and Fortymile National Wild and Scenic Rivers; and the Steese National Conservation Area. In addition to these NLCS areas, the planning area includes the White Mountains National Recreation Area. These five areas were designated and are covered by special provisions in the Alaska National Interest Lands Conservation Act of 1980, as amended (ANILCA).

The following BLM plans currently guide management decisions for 4.2 million acres in the planning area: Fortymile Management Framework Plan (1980), Fortymile River Management Plan (1983), Birch Creek River Management Plan (1983), Beaver Creek River Management Plan (1983), Record of Decision and RMP for the Steese National Conservation Area (1986), and Record of Decision and RMP for the White Mountains National Recreation Area (1986). The remaining 2.5 million acres are not covered by any land use plans.

The BLM published a Notice of Intent to prepare an RMP/EIS in the Federal Register on February 29, 2008 (73 FR 11140), beginning a 120-day scoping and public comment period. The following issues were identified during scoping: Climate change, fisheries, minerals, recreation, rights-of-way, subsistence, travel management, water quality, lands with wilderness characteristics, and wildlife.

The Draft RMP/EIS presents four alternatives, including the No Action Alternative. The BLM's preferred alternative (Alternative C) proposes a balanced level of protection, use, and enhancement of resources and services, and represents the mix and variety of actions that the BLM believes best resolves the issues and management concerns in consideration of all resource values and programs.

Pursuant to 43 CFR 1610.7-2, areas with potential for designation as Areas of Critical Environmental Concern (ACEC) and protective management are considered during the planning process. Four potential ACECs are considered for designation in Draft RMP/EIS. Boundaries, size, and management direction within potential ACECs vary by Alternative. Table 1 lists the three ACECs considered for designation in the Agency Preferred Alternative (Alternative C). The White Mountains ACEC is not considered for designation in Alternative C, but is considered for designation in one other alternative. All alternatives will retain the four existing Research Natural Areas.

The following table includes the names and acreages of each proposed ACEC and provides summary descriptions of resource use limitations for Alternative C.

Table 1—Proposed New ACECs Under the Agency Preferred Alternative, Alternative C
Proposed ACEC name | Acres | Limitations
Fortymile ACEC | 547,000 | Limited Off-Highway Vehicle (OHV) designation; seasonal limitation on uses within one mile of ungulate mineral licks; 360,000 acres of core caribou habitat closed to locatable mineral entry and mineral leasing.
Steese ACEC | 460,000 | Limited OHV designation; winter motorized use in Dall sheep habitat may be restricted if monitoring indicates sheep displacement; development of trails and recreational facilities must be compatible with caribou and Dall sheep habitat; seasonal limitation on uses within one mile of ungulate mineral licks; closed to locatable mineral entry and mineral leasing.
Salmon Fork ACEC | 621,000 | Limited OHV designation; closed to mineral leasing.

Pursuant to section 810 of ANILCA, the BLM evaluated the effects of the alternatives presented in this Draft RMP/EIS on subsistence activities and determined that some decisions in the Draft RMP/EIS may significantly restrict subsistence uses. The BLM will hold public hearings related to Section 810 of ANILCA, in conjunction with public meetings on the Draft RMP/EIS, in potentially affected regions. The BLM will announce notice of specific dates and locations for ANILCA hearings at least 15 days in advance, through public notices, media releases, and/or mailings.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2

Bud Cribley,
State Director.

[FR Doc. 2012-4039 Filed 2-23-12; 8:45 am]

BILLING CODE 4310-JA-P